DEPARTMENT OF ENERGY

Secretary of Energy Advisory Board

AGENCY: Department of Energy.

ACTION: Notice of open meeting.

SUMMARY: This notice announces an open meeting of the Secretary of Energy Advisory Board (SEAB). SEAB was reestablished pursuant to the Federal Advisory Committee Act (Pub. L. 92-463, 86 Stat. 770) (the Act). This notice is provided in accordance with the Act.

DATES: Tuesday, January 26, 2016, 8:30 a.m.-12:30 p.m. PT.

ADDRESSES: Lawrence Berkeley National Laboratory, Joint BioEnergy Institute (JBEI), 5885 Hollis Street, 4th Floor, Emeryville, CA 94608.

FOR FURTHER INFORMATION CONTACT: Karen Gibson, Designated Federal Officer, U.S. Department of Energy, 1000 Independence Avenue SW., Washington, DC 20585; telephone (202) 586-3787; seab@hq.doe.gov.

SUPPLEMENTARY INFORMATION: Background: The Board was established to provide advice and recommendations to the Secretary on the Department's basic and applied research, economic and national security policy, educational issues, operational issues, and other activities as directed by the Secretary.

Purpose of the Meeting: This meeting is the quarterly meeting of the Board.

Tentative Agenda: The meeting will start at 8:30 a.m. on January 26th. The tentative meeting agenda includes: Updates from SEAB's task forces, presentations from DOE and Berkeley Lab, and an opportunity for comments from the public. The meeting will conclude at 12:30 p.m. Agenda updates will be posted on the SEAB Web site prior to the meeting: www.energy.gov/seab.

Public Participation: The meeting is open to the public. Individuals who would like to attend must RSVP to Karen Gibson no later than 5 p.m. on Thursday, January 21, 2016 at seab@hq.doe.gov. Please provide your name, organization, citizenship, and contact information. Anyone attending the meeting will be required to present government-issued identification.

Individuals and representatives of organizations who would like to offer comments and suggestions may do so during the meeting. Those wishing to speak should register to do so beginning at 8:30 a.m. on January 26th. Approximately 30 minutes will be reserved for public comments. Time allotted per speaker will depend on the number who wish to speak but will not exceed 5 minutes. The Designated Federal Officer is empowered to conduct the meeting in a fashion that will facilitate the orderly conduct of business.

This meeting is being published less than 15 days prior to the scheduled meeting to allow the public and Board to hear presentations that are unique to this facility, and for the Board to continue to meet their deadlines and reporting schedules. Scheduling conflicts resulted in a delay in securing the venue.

Those not able to attend the meeting or who have insufficient time to address the committee are invited to send a written statement to Karen Gibson, U.S. Department of Energy, 1000 Independence Avenue SW., Washington, DC 20585, email to seab@hq.doe.gov.

Minutes: The minutes of the meeting will be available on the SEAB Web site or by contacting Ms. Gibson. She may be reached at the postal address or email address above, or by visiting SEAB's Web site at www.energy.gov/seab.

Issued in Washington, DC, on January 13, 2016.
Amy Bodette,
Committee Management Officer.

[FR Doc. 2016-00854 Filed 1-14-16; 8:45 am]

BILLING CODE 6450-01-P